DEPARTMENT OF TRANSPORTATION

Federal Aviation Administration

14 CFR Part 71

[Docket No. FAA-2005-20700; Airspace Docket No. 04-AWA-8]

RIN 2120-AA66

Establishment of Class C Airspace and Revocation of Class D Airspace, Orlando Sanford International Airport, FL; and Modification of the Orlando International Airport Class B Airspace Area, FL

AGENCY: Federal Aviation Administration (FAA), DOT.

ACTION: Final rule.

SUMMARY: This action establishes Class C airspace at the Orlando Sanford International Airport (SFB), FL; revokes the existing Sanford, FL, Class D airspace area and its associated Class E airspace extension; and modifies the existing Orlando International Airport (MCO), FL, Class B airspace area. The FAA is taking this action to improve the flow of air traffic, enhance safety, and reduce the potential for midair collision in the Orlando, FL, terminal area.

EFFECTIVE DATE: 0901 UTC, February 16, 2006.

FOR FURTHER INFORMATION CONTACT: Paul Gallant, Airspace and Rules, Office of System Operations Airspace and AIM, Federal Aviation Administration, 800 Independence Avenue, SW., Washington, DC 20591; telephone: (202) 267-8783.

SUPPLEMENTARY INFORMATION:

Background

On August 8, 2005, the FAA published in the Federal Register a notice of proposed rulemaking to modify the Orlando International Airport, FL, Class B airspace area, establish the Orlando Sanford International Airport Class C airspace, and revoke the existing Sanford Airport Class D airspace (70 FR 45599). The FAA proposed to realign the MCO Class B airspace area (within the existing lateral boundaries) due to the commissioning of runway 17L/35R; to ensure that MCO arrivals and departures are retained within Class B airspace; and adjust the configuration of the Class B airspace area to accommodate the Orlando Sanford International Airport Class C airspace area. The FAA proposed to establish the SFB Class C airspace area to enhance safety and improve the management of air traffic in the terminal area.

Interested parties were invited to participate in this rulemaking effort by submitting written comments on the proposal. In response to the NPRM, the FAA received 20 written comments. Many of the commenters identified themselves as pilots who operate within, or through, the local area. All comments received were considered before making a determination on the final rule. An analysis of the comments received and the FAA's responses are contained in the “Discussion of Comments” section, below.

Discussion of Comments

Three commenters (a commercial carrier, a flight instructor, and a local flying club) wrote in support of the proposed action. The remaining commenters objected to various aspects of the proposal, with most opposition directed at the proposed establishment of Class C airspace at SFB.

One commenter felt that changes to the MCO Class B to accommodate the proposed SFB Class C airspace might be unsafe. Concern was expressed that modification of the east-west visual flight rules (VFR) flyway between SFB and Orlando Executive Airport would compress traffic due to the locations of VFR practice areas and the Bithlo television towers.

FAA Response: The FAA does not agree. The modification of the MCO Class B airspace area to accommodate the SFB Class C airspace will not adversely impact operations to or from MCO. In addition, raising the floor of Class B airspace from 1,600 feet MSL to 2,000 feet MSL around Orlando Executive Airport will provide additional airspace for VFR aircraft to utilize while remaining below the floor of the MCO Class B airspace. The east-west flyway will be moved only one or two miles south of its current location and will remain north of the Bithlo towers and north of the Lake Apopka practice area. The modifications will provide additional flyway and transition airspace for VFR aircraft as compared to the present airspace configuration.

A number of commenters, including the Aircraft Owners and Pilots Association (AOPA) cited the excellent safety record at SFB as evidence that Class C airspace is not needed at that location.

FAA Response: The FAA agrees that SFB has had an excellent safety record. However, during calendar year 2004, SFB experienced an increase in runway incursions. During calendar year 2005, SFB undertook proactive measures that successfully reduced the number of runway incursions. Based on growing passenger enplanements, traffic mix, and complexity, the FAA believes that the designation of Class C airspace at SFB is a necessary step toward maintaining that record by further improving safety and enhancing the management of air traffic operations in the area. Receiving Class C radar services will improve safety for aircraft operating at SFB and for VFR aircraft transitioning the area.

One commenter said the FAA should pursue nonregulatory alternatives to Class C airspace at SFB such as: Adjust staffing to address safety and controller workload concerns; modify the MCO Class B airspace area or the existing SFB Class D airspace area to contain aircraft beyond the four-mile final; and delegate the sequencing of SFB arrivals to MCO approach control by letter of agreement rather than by establishing additional regulatory airspace.

FAA Response: FAA policy requires that, prior to considering designation of Class C airspace at a given location, nonregulatory alternatives that would provide an acceptable level of safety must be utilized such as: Improved radar services, pilot/controller education programs, and safety seminars. As discussed in the NPRM, a number of nonrulemaking actions were taken to address safety in the SFB area, including: (1) The installation of Digital Bright Radar Tower Equipment at SFB ATCT; (2) annual Operation Rain Check pilot-controller forums; (3) periodic user group meetings and safety meetings; (4) procedural initiatives to keep larger arriving aircraft at higher altitudes away from slower traffic and rerouting of arrivals to avoid a flight training area; (5) set up of standard VFR arrival areas; and (6) development of various procedures for more efficient handling of flight school operations in the Orlando area. These nonregulatory efforts have, indeed, contributed to enhanced safety at SFB. However, traffic conflicts in the SFB area remain a concern and the FAA believes that, considering rising passenger enplanements, and the traffic mix and volume in the Central Florida terminal area, additional action is needed in the form of Class C airspace to maintain the excellent safety record. The commenter's suggestion to adjust staffing as a means to reduce SFB tower controller workload would not be feasible to resolve the problem. A concern at SFB is the mix of small and large aircraft that use runway 9L/27R and operate in the airspace along the SFB final approach and departure areas. One controller works runway 9L/27R traffic, and splitting the position responsibilities is not possible. Therefore, additional staffing would not alleviate the workload concerns. Another suggested alternative for reducing SFB Tower workload was to delegate the sequencing of SFB arrivals to MCO approach control by a letter of agreement rather than establishing Class C airspace. However, such a procedure would not eliminate initial call-ups to the Tower by VFR aircraft operating in the area. It was also suggested that, instead of establishing Class C airspace at SFB, the FAA should expand the MCO Class B or the SFB Class D airspace areas to address the issue of SFB air carrier arrivals exiting Class B or D airspace prior to the four-mile point on final approach. Expanding the MCO Class B airspace area to cover this airspace would not be appropriate because Class B airspace is not needed in that area to support MCO operations. Additionally, expanding Class B airspace to encompass SFB final approach operations would hamper VFR operations at SFB by placing additional regulatory requirements on VFR pilots operating at SFB. Class D airspace design criteria do not allow for the length of extensions that would be required to contain the SFB ILS final approach course. The FAA believes that enhanced traffic flow and increased safety will be achieved through the designation of the SFB Class C airspace area.

Several commenters questioned the adequacy of air traffic controller staffing levels to handle the workload resulting from the modification of the MCO Class B and designation of the SFB Class C airspace.

FAA Response: Staffing and equipment resources are already in place to support the MCO Class B modifications and the establishment of the SFB Class C airspace. Procedures have been developed to operate SFB with Class C airspace. Further, MCO TRACON has added an additional sector and radio frequency, and requested an additional VFR code block, in preparation for the expected additional volume to be generated by the airspace changes. Class C airspace will generate an increased workload for the SFB Clearance Delivery position, but that position is prepared to handle the increase. Staffing and equipment levels are adequate to provide all Class C services without impacting safety or efficiency and the FAA does not expect staffing to be an issue for MCO or SFB. However, should circumstances arise that indicate a need for additional resources, action will be taken to obtain them.

One commenter questioned the justification for Class C airspace at SFB based on the passenger enplanement count, stating the enplanement data alone do not tell the full story, and two commenters questioned the validity of Class C airspace at SFB because the SFB operations count has declined below the criteria threshold.

FAA Response: The FAA agrees that enplanements are not the sole factor in determining a need for Class C airspace. Instrument operations and passenger enplanement data are used to identify an airport as a possible candidate for Class C airspace. For an airport to be identified as a candidate for Class C airspace, the airport must be serviced by an operational airport traffic control tower and a radar approach control. In addition, the airport must meet at least ONE of the following: (1) An annual instrument operations count of 75,000 at the primary airport; (2) an annual instrument operations count of 100,000 at the primary and secondary airports in the terminal area hub; or (3) an annual count of 250,000 enplaned passengers at the primary airport. These criteria only identify an airport as a candidate for possible Class C airspace designation. Since the enplaned passenger count for SFB exceeds 600,000, it is a legitimate candidate for Class C airspace. A range of other factors must also be considered when determining if a need for Class C airspace exists. However, a need to enhance safety is the main consideration in evaluating these factors. SFB ranks as the 24th busiest tower in the United States. SFB serves a combination of large aircraft with high passenger counts mixed with general aviation operations, and a high level of flight training activities. The FAA believes that the SFB Class C airspace area is justified to provide a safer environment for this mix of operations.

The Greater Orlando Airports Authority (GOAA) expressed concerns about the impact on safety for pilots flying to Orlando Executive Airport. The GOAA noted that Orlando Executive Airport, with Class D airspace, will be located between two more restrictive types of airspace; that is, Class B at MCO and Class C at SFB. The GOAA believes that the FAA did not use a regional approach in studying the terminal area airspace, and requested that the FAA implement Class C airspace at Orlando Executive concurrent with the designation of Class C airspace at SFB.

FAA Response: The FAA does not agree with GOAA's concerns regarding the extent or validity of the airspace study. FAA directives list the factors to be examined in the airspace staff study when considering Class B and Class C airspace proposals. These include an examination of VFR and IFR traffic flows into, out of, and through the terminal area; air traffic at each satellite airport in the area; and a description of overall air traffic operations in the overall area. Considering the close proximity of Orlando Executive Airport, MCO, and SFB, operations at each airport must be taken into account when examining the terminal area. Due to the size of the area encompassed by the MCO Class B airspace, a study of air traffic operations and airspace in that area must necessarily include a regional perspective. In 2003, the FAA completed a preliminary staff study to examine the need for Class C airspace at Orlando Executive Airport. However, the instrument operations count for the airport dropped below the 75,000 criteria, so further action was not pursued. The FAA believes that implementation of Class C airspace at Orlando Executive Airport at this time would be overly restrictive to VFR operations at Orlando Executive Airport. It should be noted that FAA policy directives call for terminal airspace designations to be reviewed every two years; therefore, airspace requirements at Orlando Executive Airport will be subject to further review. The FAA does not believe that this rulemaking action will adversely affect safety for pilots operating to or from Orlando Executive Airport, nor should pilots experience delays as a result. A similar situation exists in southern Florida and safety has not been compromised.

One pilot wrote that the proposed SFB Class C airspace configuration might be unsafe, citing the amount of restricted or otherwise controlled airspace already in the area (R-2910, MCO Class B, Daytona Beach Class C, etc.). The commenter objected to placing Class C airspace around SFB that would extend farther north than the current MCO Class B airspace boundary. This would crowd VFR aircraft into less space, particularly to the northwest of the proposed outer ring where two towers extend to over 1,700 feet MSL.

FAA Response: The commenter is incorrect regarding the extent of the SFB 10-NM ring. The original configuration of the proposed SFB Class C airspace did include a full 10-NM ring north of the airport. However, based on feedback from the ad hoc committee meetings, and as described in the NPRM, the proposed SFB Class C airspace design was changed so that the 10-NM ring was eliminated north of the current northern boundary of the MCO Class B airspace area along latitude 28°53′00″ N. Therefore, Class C airspace will not extend into the airspace in question near the towers nor will the SFB Class C airspace result in additional crowding of VFR aircraft between the Daytona Beach Class C airspace area and the current northern edge of the MCO Class B airspace area. Similarly, to the south of SFB, the Class C 10-NM ring was cutoff along latitude 28°41′36″ N. This modification provides additional airspace in the east-west VFR flyway located between Orlando Executive and SFB.

A majority of the commenters stated that the SFB Class C airspace would adversely impact, and place undue burdens on, VFR operations to, from, and transiting the terminal area. Several writers commented that they currently are able to operate to and from SFB without problems or delays. Several commenters felt that the existing MCO Class B airspace dominates the region and currently restricts VFR flying and that adding the SFB Class C airspace would make flying in the area more confusing. Commenters were also concerned that the implementation of Class C airspace might cause congestion and bottlenecks on approach control frequencies and otherwise result in limitations on general aviation access to the airspace.

FAA Response: The FAA does not agree. Current traffic routings and proposed Class C routings were compared and it was found that the new Class C airspace would have minimal negative impact on users. Procedures for the Class C airspace operation will allow SFB users to continue flying much as they do today. The FAA believes that this rule will provide an additional level of safety for VFR aircraft operating at SFB and in the Orlando terminal area. A minimal increase in flying miles (five miles further west or east of SFB) may be required for pilots desiring to transit outside the SFB Class C and MCO Class B airspace areas. With Class C airspace, all VFR aircraft flying to SFB will receive radar service. ATC will utilize three arrival sectors for handling inbound aircraft. This will result in less difficulty arriving at SFB and may reduce flying time to enter the traffic pattern. The modifications to the MCO Class B airspace will also provide additional airspace for VFR aircraft in the area to the north of Orlando Executive Airport and south of the SFB Class C airspace area. A new north-south VFR flyway is being added to the east of the SFB Class C airspace area. The FAA is also establishing two new VFR waypoints (VPAPO southwest of SFB at lat. 28°40′15″ N., long. 81°31′31″ W.; and VPBIT southeast of SFB at lat. 28°39′54″ N., long. 81°01′18″ W.). The new waypoints will assist VFR navigation through the expanded east-west VFR flyway that lies between Orlando Executive Airport and SFB, and the north-south flyways to the east and west of the SFB Class C airspace area. The FAA will allow SFB VFR departures, on pilot request, to remain on SFB ATCT frequency and terminate service at the 5-mile Class C airspace ring. The FAA also will continue the procedure whereby departing VFR aircraft at Orlando Executive Airport may request a transponder code on the ground. Currently, most Orlando Executive VFR northbound departures fly around the SFB Class D airspace. The addition of the SFB Class C airspace will only slightly increase flying miles as noted above. Since the changes implemented by this rulemaking action lie totally within the existing MCO mode C veil, no additional aircraft equipment requirements are imposed in order to operate in the area. As discussed under the comments regarding staffing, above, the FAA has taken steps to ensure that MCO approach control is prepared to handle the workload generated by the implementation of the SFB Class C airspace area.

A suggestion was made that the floor of the SFB Class C airspace in the 5-10 mile ring be raised from 1,300 feet MSL to 1,600 feet MSL to allow transiting VFR aircraft to fly beneath the area at 1,500 feet MSL.

FAA Response: The FAA does not agree with the suggestion. The crossing altitudes at the final approach fixes are 1,500 feet MSL and 1,600 feet MSL. Raising the floor as suggested would result in conflicts that the Class C airspace is designed to eliminate.

One commenter suggested that a north-south VFR flyway be established directly over SFB.

FAA Response: The FAA does not agree. Currently, aircraft transitioning over SFB at 1,500 feet MSL, as approved by SFB Tower, total only about five per day. With the implementation of the SFB Class C airspace area, a transition over SFB at 2,500 feet MSL would be possible for aircraft in contact with MCO approach control. A VFR flyway directly over SFB would not be feasible. VFR flyways provide general flight paths for pilots planning flights into, out of, through, or near complex terminal airspace so as to avoid Class B airspace. Flyway altitudes must avoid airspace that requires prior authorization or clearance to enter. A flyway over SFB would result in departures being restricted below the flyway altitude until clear of the flyway. The airspace between 2,000 feet MSL and 3,000 feet MSL over SFB is used to transition arrivals and departures to/from Orlando Executive Airport. Due to the complexity of the airspace in the SFB area, the suggested flyway is not feasible because it would impact SFB operations, and/or require pilots to obtain a Class B clearance or establish communications in order to enter Class C airspace.

Several commenters, including AOPA, argued that the FAA did not follow the ad hoc committee process, ignored public input, and/or did not obtain sufficient user involvement in developing this airspace proposal.

FAA Response: Substantial user input was obtained in developing the MCO/SFB airspace proposal. Ad hoc user meetings were held on January 14, February 25, and March 17, 2003. The FAA did encounter a delay in mailing of the announcement of the two Informal Airspace Meetings held in November 2003. As a result, supplemental notifications were made to various organizations via e-mail and the information was displayed on the MCO Tower web site. The NPRM also provided a 60-day comment period, which resulted in 20 written comments being submitted to the FAA. Additionally, discussions on the project have been included at regular local airport user meetings since early 2003. The comment that the FAA ignored public input is without basis. In fact, the NPRM specifically addressed at least seven specific issues that were raised in a letter submitted to the FAA by an aviation organization as a result of public meetings. The NPRM also discussed a number of recommendations that resulted from the ad hoc committee meetings and included issues discussed at the November 2003 Informal Airspace Meetings.

The following is a summary of the ad hoc committee recommendations:

1. Reduce the Class C 10-mile ring north of SFB to align with the current Class B boundary.

2. Include a cutout from the Class C airspace area to accommodate the Cedar Knoll Flying Ranch Airport.

3. Provide a procedure allowing SFB VFR departures to remain with the Tower and terminate services at the five-mile ring, below the Class C airspace outer area.

4. Permit Orlando Executive Airport VFR departures to obtain a transponder code on the ground.

5. Establish an uncontrolled VFR flyway over SFB at 2,500 feet MSL and a new flyway east of the proposed SFB Class C airspace.

6. Realign the eastern edge of the proposed Class C airspace to follow the shore of Lake Harney.

7. Raise the floor of the proposed SFB Class C from 1,300 feet MSL to 1,600 feet MSL within the 5-10 mile ring to enable VFR aircraft to fly beneath it at 1,500 feet MSL.

8. Establish Class C airspace at Orlando Executive Airport concurrent with the SFB Class C airspace implementation.

With the exception of the VFR flyway over SFB, the alignment of the Class C boundary along Lake Harney, the requested 1,600 feet MSL floor in the 5-10 mile ring, and the designation of Class C airspace at Orlando Executive Airport, the above recommendations were adopted.

The Rule

This action amends Title 14 Code of Federal Aviation Regulations (14 CFR) part 71 to modify the MCO Class B airspace area, establish the SFB Class C airspace area, and revoke the SFB Class D airspace area. The specifics of this action (depicted on the attached chart) are summarized in the following paragraphs. In addition, this rule revokes the Class E airspace extension to the SFB Class D airspace area.

Orlando Sanford International Airport Class C Airspace

The Sanford Class C airspace area is described as follows:

That airspace extending upward from the surface to but not including 3,000 feet MSL within a 5-mile radius of the Sanford International Airport (SFB), excluding that airspace from the surface to but not including 700 feet MSL in the vicinity of Cedar Knoll Flying Ranch Airport within the area beginning at lat. 28°50′00″ N., long. 81°10′00″ W., thence clockwise along the SFB 5-mile radius arc to lat. 28°43′20″ N., long. 81°10′00″ W., thence north to the point of beginning; and that airspace extending upward from 1,300 feet MSL to but not including 3,000 feet MSL within the area beginning northeast of the primary airport at the intersection of the SFB 10-mile radius arc and lat. 28°53′00″ N., thence clockwise along the SFB 10-mile radius arc to lat. 28°41′36″ N., then west along lat. 28°41′36″ N. to the intersection of the SFB 10-mile radius arc, then clockwise along the SFB 10-mile radius arc to lat. 28°53′00″ N., then east along lat. 28°53′00″ N., to the point of beginning.

The SFB Class C airspace area will be effective during times when the Orlando Sanford International ATCT is in operation. These times will be published in the appropriate volume of the Airport/Facility Directory.

The Sanford Class C airspace will replace the existing Sanford Class D airspace area, which will be revoked through this rule. In addition, although not addressed in the NPRM, this action also revokes the existing Class E airspace extension to the SFB Class D airspace area. Since the Class D airspace area is being revoked, the Class E extension is no longer required.

Orlando International Airport Class B Airspace

This action modifies several areas within the Orlando Class B airspace to accommodate the new Sanford Class C airspace area; reflect the adjustment of the Orlando International Airport ARP as a result of the commissioning of the fourth runway at Orlando International Airport; and provide additional Class B airspace to ensure that Orlando International Airport arrivals and departures are contained within Class B airspace. The existing outer-most boundaries of the Orlando Class B airspace area remain unchanged by these modifications.

The following describes the revisions to the Orlando Class B airspace area:

Area A. Area A is recentered on lat. 28°25′46″ N., long. 81°18′32″ W. This represents a shift of Area A slightly to the east to recenter the area on the revised Orlando International Airport ARP, which was adjusted due to the addition of the fourth runway at Orlando International.

Area B. The eastern boundary of Area B is shifted approximately 1 NM east to long. 81°10′00″ W. to accommodate the new Orlando International Airport runway.

Area C. The section of Area C in the vicinity of Sanford International Airport is removed and replaced by the Sanford Class C airspace area up to but not including 3,000 feet MSL, and by Area E from 3,000 feet MSL up to and including 10,000 feet MSL. Area C in the vicinity of Orlando Executive Airport is reduced in size. The airspace removed from Area C to the west, north, and northeast of Orlando Executive Airport is incorporated into Area D with its higher Class B airspace floor of 2,000 feet MSL. This change increases the amount of airspace available to VFR aircraft allowing them to utilize that area below 2,000 feet and remain outside of Class B airspace. Also, the eastern boundary of the Area C segments located to the north and south of Orlando International Airport is modified by moving the eastern boundary one degree east to long. 81°10′00″ W. to accommodate the new runway.

Area D. Area D is expanded in size in the vicinity of Orlando Executive Airport by incorporating the airspace removed from Area C, as described above. This change also raises the floor of Class B airspace in the affected area from 1,600 feet MSL to 2,000 feet MSL, providing additional VFR flyway airspace between Sanford International Airport and Orlando Executive Airport while still protecting Orlando International Airport arrivals. Also, the eastern boundary of Area D is moved eastward to long. 81°10′00″ W. to accommodate the new runway at Orlando International Airport.

Area E. The boundary of Area E to the east of Orlando International, currently defined by long. 81°11′00″ W., is moved eastward one degree to long. 81°10′00″ W. This modification accommodates the new Orlando International Airport runway. Additionally, Area E is expanded in the vicinity of Sanford so that Area E overlies the Sanford Class C airspace area and incorporates the airspace from 3,000 feet MSL up to and including 10,000 feet MSL over Sanford, that was formerly in Area C. Also, the southern boundary of Area E, located to the south of Sanford, is moved further south by approximately 2.5 NM to align it with the southern boundary of the Sanford Class C airspace area, along lat. 28°41′36″ N.

Area F. That airspace described as Area F in the existing Orlando Class B airspace area is renamed “Area G.” A new Area F is inserted to the west of Orlando International, adjacent to, and west of, Area D and Area E. This new Area F consists of that airspace located between long, 81°27′30″ W. and long. 81°32′00″ W., and bounded by the ORL VORTAC 30-mile radius on the south, and by lat. 28°53′00″ N., on the north. The floor of the new Area F is set at 4,000 feet MSL instead of the 6,000 feet MSL floor in the existing Area F. The lower floor provided by the new Area F ensures that departures climbing westbound off MCO and arrivals on downwind leg for landing at Orlando International remain within Class B airspace.

Area G. The remaining sections of the existing Area F are renamed Area G as a result of the addition of a new Area F, described above.

Regulatory Evaluation Summary

Changes to Federal Regulations must undergo several economic analyses. First, Executive Order 12866 directs that each Federal agency shall propose or adopt a regulation only upon a reasoned determination that the benefits of the intended regulation justify its costs. Second, the Regulatory Flexibility Act requires agencies to analyze the economic effect of regulatory changes on small businesses and other small entities. Third, the Office of Management and Budget directs agencies to assess the effect of regulatory changes on international trade. In conducting these analyses, the FAA has determined that this final rule: (1) Will generate benefits that justify its minimal costs and is not a “significant regulatory action” as defined in the Executive Order; (2) is not significant as defined in the Department of Transportation's Regulatory Policies and Procedures; (3) will not have a significant impact on a substantial number of small entities; (4) will not constitute a barrier to international trade; and (5) will not contain any Federal intergovernmental or private sector mandate. These analyses are summarized here in the preamble, and the full Regulatory Evaluation is in the docket.

The FAA proposed to change the Orlando Class B and the Orlando Sanford Airport Class D airspace areas. The Orlando Class B airspace area modification will maintain the 10,000 feet MSL airspace ceiling and redefine the lateral limits of several of the existing subareas to improve the management of air traffic operations in the Orlando terminal area. The Orlando Sanford Airport Class D airspace area upgrade to a Class C airspace area will lower the airspace area from 3,000 to 1,600 feet MSL and will include a radius of 4.4 NM from the Orlando Sanford Airport up to but not including 1,600 feet MSL.

The FAA has determined that the changes to the Orlando Class B and the Orlando Sanford Airport Class D airspace areas will improve the operational efficiency while maintaining aviation safety in the terminal airspace area. Also, clearer boundary definition and changes to lateral and vertical limits of some subareas will provide additional airspace for use by VFR aircraft transitioning to and from satellite airports. This proposal will impose only negligible costs on some airspace users but could potentially reduce circumnavigation costs to other airspace users.

The final rule will result in negligible additional administrative costs to the FAA and no additional operational costs for personnel or equipment to the agency. Printing of aeronautical charts which reflect the changes to the Class B area and the upgrade to Class C airspace area will be accomplished during a scheduled chart printing, and will result in no additional costs for plate modification and updating of charts. Furthermore, no staffing changes will be required to maintain the modified Class B airspace area and the upgraded Class D airspace area. Potential increase in FAA operations workload could be absorbed by current personnel and equipment.

In view of the negligible cost of compliance, enhanced aviation safety, and improved operational efficiency, the FAA has determined that the final rule will be cost-beneficial.

Final Regulatory Flexibility Determination

The Regulatory Flexibility Act of 1980 establishes “as a principle of regulatory issuance that agencies shall endeavor, consistent with the objective of the rule and of applicable statutes, to fit regulatory and informational requirements to the scale of the business, organizations, and governmental jurisdictions subject to regulation.” To achieve that principal, the Act requires agencies to solicit and consider flexible regulatory proposals and to explain the rationale for their actions. The Act covers a wide-range of small entities, including small businesses, not-for-profit organizations and small governmental jurisdictions.

Agencies must perform a review to determine whether a proposed or final rule will have a significant economic impact on a substantial number of small entities. If the determination is that it will, the agency must prepare a regulatory flexibility analysis (RFA) as described in the Act.

However, if an agency determines that a proposed or final rule is not expected to have a significant economic impact on a substantial number of small entities, section 605(b) of the Act provides that the head of the agency may so certify and an RFA is not required. The certification must include a statement providing the factual basis for this determination, and the reasoning should be clear.

The FAA has determined that the final rule will have a de minimus impact on small entities. All commercial and general aviation operators who presently use the Orlando International Airport are equipped to operate within the modified Class B airspace area. As for aircraft that regularly fly through the Orlando Sanford International Airport Class D airspace area, since the airport is situated within the established Orlando Mode C Veil, all aircraft should already have the necessary equipment to transition the modified Class B airspace area. Therefore, there will be no additional equipment cost to these entities.

Accordingly, pursuant to the Regulatory Flexibility Act, 5 U.S.C. 605(b), as the Administrator of the Federal Aviation Administration, I certify that this rule will not have a significant economic impact on a substantial number of small entities.

International Trade Impact Assessment

Trade Impact Assessment

The Trade Agreement Act of 1979 prohibits Federal agencies from establishing any standards or engaging in related activities that create unnecessary obstacles to the foreign commerce of the United States. Legitimate domestic objectives, such as safety, are not considered unnecessary obstacles. The statute also requires consideration of international standards and, where appropriate, that they be the basis for U.S. standards. The FAA has assessed the potential effect of this (proposed/final) rule and determined that it will have only a domestic impact and therefore no affect on any trade-sensitive activity.

Unfunded Mandates Assementment

The Unfunded Mandates Reform Act of 1995 (the Act) is intended, among other things, to curb the practice of imposing unfunded Federal mandates on State, local, and tribal governments. Title II of the Act requires each Federal agency to prepare a written statement assessing the effects of any Federal mandate in a proposed or final agency rule that may result in an expenditure of $100 million or more (adjusted annually for inflation) in any one year by State, local, and tribal governments, in the aggregate, or by the private sector; such a mandate is deemed to be a “significant regulatory action.” The FAA currently uses an inflation-adjusted value of $120.7 million in lieu of $100 million.

This final rule does not contain such a mandate. The requirements of Title II do not apply.

Paperwork Reduction Act

In accordance with the Paperwork Reduction Act of 1980 (Pub. L. 96-511), there are no requirements for information collection associated with this action.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9N, Airspace Designations and Reporting Points, dated September 1, 2005, and effective September 15, 2005, is amended as follows:

Paragraph 3000 Class B Airspace

* * * * *

ASO FL B Orlando, FL [Revised]

Orlando International Airport (MCO) (Primary Airport)

(Lat. 28°25′46″ N., long. 81°18′32″ W.)

Orlando VORTAC (ORL)

(Lat. 28°32′34″ N., long. 81°20′06″ W.)

Boundaries

Area A—That airspace extending upward from the surface to and including 10,000 feet MSL within a 5-NM radius from the Orlando International Airport.

Area B—That airspace extending upward from 900 feet MSL to and including 10,000 feet MSL beginning at a point of the intersection of State Road (S.R.) 423 (John Young Parkway SW of ORL VORTAC) and Interstate 4, thence northeast along Interstate 4 to the intersection of Interstate 4 and S.R. 441 (Orange Blossom Trail), thence direct to the intersection of Lake Underhill Road and Palmer Street, thence east along Lake Underhill Road to the intersection of Lake Underhill Road and the Central Florida Greenway (S.R. 417), thence direct to lat. 28°29′22″ N., long. 81°10′00″ W. (the Stanton Power Plant), thence south to the intersection of the ORL VORTAC 14-mile radius arc, thence clockwise along the ORL VORTAC 14-mile radius arc to the intersection of S.R. 423, thence north along S.R. 423 to the point of beginning.

Area C—That airspace extending upward from 1,600 feet MSL to and including 10,000 feet MSL beginning at a point of the intersection of Interstate 4 and the Orlando Executive Airport Class D airspace 4.2-mile radius arc (lat. 28°30′33″ N., long. 81°24′03″ W.), thence clockwise on the Orlando Executive Airport 4.2-mile radius to University Blvd., thence east on University Blvd. to the intersection of S.R. 434, thence east on lat. 28°35′50″ N. to long. 81°10′00″ W., thence south to lat. 28°29′22″ N., thence northwest direct to the intersection of Lake Underhill Road and Central Florida Greenway (S.R. 417), thence west along Lake Underhill Road to the intersection of Palmer Street, thence southwest to the point of beginning. Also, that airspace south of the primary airport extending upward from 1,600 feet MSL to and including 10,000 feet MSL beginning at the point of intersection of long. 81°24′06″ W., and the ORL VORTAC 14-mile radius arc, thence counterclockwise along the ORL VORTAC 14-mile radius arc to the intersection of long. 81°10′00″ W., thence south to the intersection of the ORL VORTAC 20-mile radius arc, thence clockwise along the ORL VORTAC 20-mile radius arc to long. 81°24′06″ W., thence north to the point of beginning.

Area D—That airspace extending upward from 2,000 feet MSL to and including 10,000 feet MSL beginning at a point of the intersection of Interstate 4 and long. 81°27′30″ W., thence north to lat. 28°41′36″ N., thence east to long. 81°10′00″ W., thence south to lat. 28°35′50″ N., thence west to the intersection of S.R. 434 and University Blvd., thence west on University Blvd. to the Orlando Executive Airport 4.2-mile radius arc, thence counterclockwise on the Orlando Executive Airport 4.2-mile radius arc to the intersection of Interstate 4, southwest of the ORL VORTAC, thence west on Interstate 4 to the intersection of S.R. 423, thence south along S.R. 423 to the intersection of the ORL VORTAC 14-mile radius arc, thence counterclockwise along the ORL VORTAC 14-mile radius arc to long. 81°24′06″ W., thence south to the intersection of the ORL VORTAC 20-mile radius arc, thence clockwise along the ORL VORTAC 20-mile radius arc to the intersection of long. 81°27′30″ W., thence north to the point of beginning.

Area E—That airspace extending upward from 3,000 feet MSL to and including 10,000 feet MSL beginning at a point of the intersection of lat. 28°41′36″ N., long. 81°27′30″ W., thence north to the intersection of lat. 28°53′00″ N., thence east to the intersection of the MCO Mode C Veil 30-NM radius arc, thence southeast along the MCO Mode C Veil 30-NM radius arc to the intersection of the power lines at lat. 28°50′20″ N., thence southeast along these power lines to lat. 28°41′36″ N., thence west to long. 81°05′09″ W., thence south along the Florida Power transmission lines to the intersection of Highway 50 at lat. 28°32′10″ N., long. 81°03′35″ W., thence south to the Bee Line Expressway at lat. 28°27′05″ N., long. 81°03′45″ W., thence west along the Bee Line Expressway to the intersection of lat. 28°27′00″ N., long. 81°04′40″ W., thence south to the intersection of the ORL VORTAC 30-mile radius arc, thence clockwise along the ORL VORTAC 30-mile radius arc to long. 81°27′30″ W., thence north on long. 81°27′30″ W., to the intersection of the ORL VORTAC 20-mile radius arc, thence counterclockwise along the ORL VORTAC 20-mile radius arc to the intersection of long. 81°10′00″ W., thence north to the intersection of lat. 28°41′36″ N., thence west to the point of beginning.

Area F—That airspace extending upward from 4,000 feet MSL to and including 10,000 feet MSL beginning south of the primary airport at the intersection of the ORL VORTAC 30-mile radius arc and long. 81°27′30″ W., thence clockwise along the ORL VORTAC 30-mile radius arc to long. 81°32′00″ W., thence north to lat. 28°53′00″ N., thence east to long. 81°27′30″ W., thence south to the point of beginning.

Area G—That airspace extending upward from 6,000 feet MSL to and including 10,000 feet MSL beginning south of the primary airport at the intersection of the ORL VORTAC 30-mile radius arc and long. 81°32′00″ W., thence clockwise on the ORL VORTAC 30-mile radius arc to the intersection of Highway 27, thence north along Highway 27 to the intersection of Highway 27 and long. 81°45′00″ W., thence north along long. 81°45′00″ W., to the intersection of the ORL VORTAC 24-mile radius arc, thence clockwise along the ORL VORTAC 24-mile radius arc to the intersection of lat. 28°53′00″ N., thence east to the intersection of long. 81°32′00″ W., thence south to the point of beginning. Also that airspace extending upward from 6,000 feet MSL to and including 10,000 feet MSL beginning at the Florida Power transmission lines at lat. 28°41′36″ N., long. 81°05′09″ W., thence east along lat. 28°41′36″ N. to the Florida Power transmission lines at lat. 28°41′36″ N., long. 80°54′26″ W., thence southeast and south along these power lines to the intersection of Highway 50, thence south to the power lines at lat. 28°22′14″ N., long. 80°52′30″ W., thence southwest along these power lines to the intersection of long. 81°04′40″ W., thence north along long. 81°04′40″ W., to the intersection of the Bee Line Expressway at lat. 28°27′00″ N., long. 81°04′40″ W., thence east along the Bee Line Expressway to lat. 28°27′05″ N., long. 81°03′45″ W., thence north to the intersection of Highway 50 and the Florida Power transmission lines at lat. 28°32′10″ N., long. 81°03′45″ W., thence north along these power lines to the point of beginning.

* * * * *

Paragraph 4000 Class C Airspace

* * * * *

ASO FL C Sanford, FL [New]

Orlando Sanford International Airport (SFB) (Primary Airport)

(Lat. 28°46′40″ N., long. 81°14′15″ W.)

Cedar Knoll Flying Ranch Airport (Private Airport)

(Lat. 28°46′55″ N., long. 81°09′33″ W.)

That airspace extending upward from the surface to but not including 3,000 feet MSL within a 5-mile radius of the Orlando Sanford International Airport, excluding that airspace, from the surface to but not including 700 feet MSL in the vicinity of Cedar Knoll Flying Ranch Airport, within the area beginning at lat. 28°50′00″ N., long. 81°10′00″ W., thence clockwise along the SFB 5-mile radius arc to lat. 28°43′20″ N., long. 81°10′00″ W., thence north to the point of beginning; and that airspace extending upward from 1,300 feet MSL to but not including 3,000 feet MSL within the area beginning northeast of the primary airport at the intersection of the SFB 10-mile radius arc and lat. 28°53′00″ N., thence clockwise along the SFB 10-mile radius arc to lat 28°41′36″ N., thence westbound to the intersection of the SFB 10-mile radius arc, thence clockwise on the SFB 10-mile radius arc to lat. 28°53′00″ N., thence east to the point of beginning. This Class C airspace area is effective during the specific days and hours of operation of the Orlando Sanford International Airport Tower as established in advance by Notice to Airmen. The effective dates and times will thereafter be continuously published in the Airport/Facility Directory.

* * * * *

Paragraph 5000 Class D Airspace

* * * * *

ASO FL D Sanford, FL [Remove]

* * * * *

Paragraph 6004 Class E Airspace Areas Designated as an Extension to a Class D Surface Area

* * * * *

ASO FL E4 Sanford, FL [Remove]

* * * * *

Issued in Washington, DC, on December 20, 2005.
Edith V. Parish,
Manager, Airspace and Rules.

BILLING CODE 4910-13-U

[FR Doc. 05-24433 Filed 12-22-05; 8:45 am]

BILLING CODE 4910-13-C